DEPARTMENT OF HEALTH AND HUMAN SERVICES

Centers for Disease Control and Prevention

[Program Announcement 01151]

Development of Model Voluntary Counseling and Testing Services in the Democratic Republic of Ethiopia; Notice of Availability of Funds

A. Purpose

The Centers for Disease Control and Prevention (CDC) announces the availability of fiscal year (FY) 2001 funds for a cooperative agreement program for the development of pilot voluntary counseling and testing (VCT) services in the Federal Democratic Republic of Ethiopia.

The purpose of this cooperative agreement is to increase access to quality VCT services in Addis Ababa by involving, encouraging and supporting the Addis Ababa HIV/AIDS Prevention and Control Secretariat for pilot VCT services in the city of Addis Ababa.

Since the implementation of VCT services to the general population has been identified as a key strategy for the prevention of HIV transmission, these collaborative activities could profoundly change the focus and activities of the Ethiopian National AIDS Policy and improve AIDS control programs and prevention efforts in Ethiopia and eventually throughout sub-Saharan Africa.

The U.S. Government seeks to reduce the impact of HIV/AIDS in specific countries within sub-Saharan Africa, Asia, and the Americas through its Leadership and Investment in Fighting an Epidemic (LIFE) initiative. Through this LIFE program, CDC has initiated its Global AIDS Program (GAP) to strengthen capacity and expand activities in the areas of (1) HIV primary prevention; (2) HIV care, support, and treatment; and (3) capacity and infrastructure development. Targeted countries represent those with the most severe epidemics and the highest number of new infections. They also represent countries where the potential for impact is greatest and where U.S. Government agencies are already active. Ethiopia is one of these targeted countries.

As a key partner in the U.S. Government's LIFE initiative, CDC is working in a collaborative manner with national governments and other agencies to develop programs of assistance to address the HIV/AIDS epidemic in LIFE initiative countries. In particular, CDC's mission in Ethiopia is to work with Ethiopian and international partners to develop and apply effective interventions to prevent HIV infection and associated illness and death from AIDS.

Ethiopia is among the world's countries most adversely affected by the HIV/AIDS epidemic and TB. With an estimated three million adults infected with HIV by end of 1999, Ethiopia has the third largest population of HIV-infected persons in the world, accounting for about 9 percent of the world's HIV/AIDS cases. The estimated percent of adults aged 15 to 49 infected with HIV is 10.6 percent, making Ethiopia sixteenth in the world in HIV prevalence. There have been over a million cumulative deaths due to AIDS, with 280,000 occurring in 1999 alone. UNAIDS estimated that 150,000 children are currently living with HIV and that 1.2 million children have been orphaned by AIDS, making Ethiopia third in the number of HIV orphans in the world. The principal routes of HIV transmission are heterosexual and mother-to-infant; HIV and other STIs are closely associated. The World Health Organizations (WHO) estimated TB incidence, prevalence and deaths rates for Ethiopia in 1997 were 260, 367, and 82 per 100,000 population respectively, which represented 156,000 new cases, 221,000 infections and 49,000 deaths for that year. TB cases have been increasing over the years coincident with HIV epidemic; HIV prevalence among TB patients is estimated at 40-50 percent. Data on STIs, however, are scant. These statistics suggest the need for the expansion and improvement of a range of surveillance, care, and prevention activities and services.

Voluntary counseling and testing is one of the major strategies in the prevention of HIV transmission which also serves as a tool to reduce and/or avoid risky behaviors. It provides increased opportunities for the early diagnosis of HIV infection, prevention and/or treatment of opportunistic infections, prevention of mother-to-child HIV transmission (PMTCT), and improvement of surveillance systems. Implementing quality VCT has not been feasible thus far because of the unavailability of standard counseling and testing guidelines, training manuals and established referral systems linked to care and support. In Addis Ababa during the past two years, the few “VCT” centers established were primarily owned and operated by private clinics and faith-based organizations. Findings from studies and personal observations indicate that although the community demand for testing is on the increase in the city, most of the services were found to be unaffordable financially and also lacked standard approaches for testing and counseling. To address this public demand and further intensify the prevention efforts, the establishment of quality VCT is very important. This project is therefore aimed at setting up standardized integrated VCT service at one of the general hospitals (Princess Zewditu Memorial Hospital) and free-standing VCT services at an NGO (OSSA) in Addis Ababa.

B. Eligible Applicants

Assistance will be provided only to the Addis Ababa HIV/AIDS Prevention and Control Secretariat. No other applications are solicited.

The Addis Ababa HIV/AIDS Prevention and Control Secretariat is the only appropriate and qualified organization to conduct a specific set of activities supportive of the CDC Global AIDS Program's technical assistance to Ethiopia because:

1. The Addis Ababa HIV/AIDS Prevention and Control Secretariat is uniquely positioned, in terms of legal authority, ability, and credibility among Ethiopian citizens, to develop and implement a model VCT system in public and non-governmental organization sites in Addis Ababa, Ethiopia.

2. The Addis Ababa HIV/AIDS Prevention and Control Secretariat already has established mechanisms to develop and implement VCT services in Addis Ababa, enabling it to immediately become engaged in the activities listed in this announcement.

3. The purpose of the announcement is to build upon the existing framework of HIV prevention activities that the Addis Ababa HIV/AIDS Prevention and Control Secretariat itself has developed or initiated.

4. The Addis Ababa HIV/AIDS Prevention and Control Secretariat has been mandated by the Ethiopian government to coordinate and implement HIV prevention activities including VCT within the Addis Ababa region.

C. Availability of Funds

Approximately $500,000 is available in FY 2001 to fund this award. It is expected that the award will begin on or about September 30, 2001 and will be made for a 12-month budget period within a project period of up to five years. Annual funding estimates may change.

Continuation awards within the approved project period will be made on the basis of satisfactory progress as evidenced by required reports and the availability of funds.

All requests for funds, including the budget contained in the application, shall be stated in U.S. dollars. Once an award is made, the Department of Health and Human Services (DHHS) will not compensate foreign grantees for currency exchange fluctuations through the issuance of supplemental awards.

1. Use of Funds

Funds received from this announcement will not be used for the purchase of antiretroviral drugs for treatment of established HIV infection (with the exception nevirapine in PMTCT cases and with prior written approval), occupational exposures, and non-occupational exposures and will not be used for the purchase of machines and reagents to conduct the necessary laboratory monitoring for patient care.

No funds awarded under this announcement shall be used to carry out any program of distributing sterile needles or syringes for the hypodermic injection of any illegal drug.

Applicants may contract with other organizations under these cooperative agreements, however, applicants must perform a substantial portion of the activities (including program management and operations and delivery of prevention services) for which funds are requested.

The costs that are generally allowable in grants to domestic organizations are likewise allowable to foreign institutions and international organizations, with the following exception;

Indirect Costs: With the exception of the American University, Beirut, the Gorgas Memorial Institute, and the World Health Organizations, indirect costs will not be paid (either directly or through a sub-award) to organizations located outside the territorial limits of the United States or to international organizations regardless of their location.

D. Where to Obtain Additional Information

This and other CDC announcements can be found on the CDC home page Internet address—http://www.cdc.gov. Click on “Funding” then “Grants and Cooperative Agreements.”

To obtain business management technical assistance, contact: Dorimar Rosado, Grants Management Officer, Grants Management Branch, Procurement and Grants Office, Centers for Disease Control and Prevention, 2920 Brandywine Road, Room 3000, Atlanta, GA 30341-4146, Telephone number: (770) 488-2782, e-mail: dpr7@cdc.gov.

For program technical assistance, contact: Tadesse Wuhib, MD, MPH, >CDC Ethiopia, U.S. Embassy, P.O. Box 1014, Entoto Road, Addis Ababa, Ethiopia, Telephone: 251-9-22-00-84 e-mail: tew7@cdc.gov.

Dated: July 17, 2001.
John L. Williams,
Director, Procurement and Grants Office, Centers for Disease Control and Prevention (CDC).

[FR Doc. 01-18283 Filed 7-20-01; 8:45 am]

BILLING CODE 4163-18-P